DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Acting Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on October 1, 2004, through March 31, 2005.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading For Further Information Contact), with a copy to HRSA addressed to Acting Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of Title 44, United States Code, related to paperwork reduction, does not apply to information required for purposes of carrying out the Program.

List of Petitions

1. Victoria and Sam Raygorodsky on behalf of Dennis Raygorodsky, Somers Point, New Jersey, Court of Federal Claims Number 04-1519V.

2. Deena and Olando Rivera on behalf of Anthony Rivera, Allentown, Pennsylvania, Court of Federal Claims Number 04-1521V.

3. Patti and Robby Fountain on behalf of Maci Fountain, Dallas, Texas, Court of Federal Claims Number 04-1522V.

4. Patti and Robby Fountain on behalf of Megan Fountain, Dallas, Texas, Court of Federal Claims Number 04-1523V.

5. Randall Pobran on behalf of Cade Pobran, Troy, New York, Court of Federal Claims Number 04-1527V.

6. Wendy Freeman on behalf of Sarah Freeman, Boston, Massachusetts, Court of Federal Claims Number 04-1528V.

7. Pamela Boss on behalf of Michael Battle, Stockton, California, Court of Federal Claims Number 04-1530V.

8. Kimberly and John Paul McAllister on behalf of Matthew McAllister, Dallas, Texas, Court of Federal Claims Number 04-1534V.

9. Cynthia and Thomas Byrd on behalf of Katie Elizabeth Byrd, Monroe, Louisiana, Court of Federal Claims Number 04-1536V.

10. Kelly and James Davis on behalf of Miles Davis, Salisbury, North Carolina, Court of Federal Claims Number 04-1537V.

11. Theodore Heflin, Overland Park, Kansas, Court of Federal Claims Number 04-1541V.

12. Elihu and Sally Sigal on behalf of Elihu Sigal, Palm Desert, California, Court of Federal Claims Number 04-1542V.

13. Michelle Alberson on behalf of Annalizia B. Alberson, New Haven, Indiana, Court of Federal Claims Number 04-1543V.

14. Debra and Mark Tinnemeyer on behalf of Dylan Tinnemeyer, Houston, Texas, Court of Federal Claims Number 04-1545V.

15. Robert Risley on behalf of Rachel Risley, Boston, Massachusetts, Court of Federal Claims Number 04-1554V.

16. Lance Barney on behalf of Austin Barney, Boston, Massachusetts, Court of Federal Claims Number 04-1555V.

17. George Bellog on behalf of Natalie Bellog, Boston, Massachusetts, Court of Federal Claims Number 04-1556V.

18. Shelly Andrews on behalf of Mitchell Andrews, Boston, Massachusetts, Court of Federal Claims Number 04-1557V.

19. Lori Brady on behalf of Charles Brady, Boston, Massachusetts, Court of Federal Claims Number 04-1558V.

20. Catherine and Paul O'Meara on behalf of Blaine Joseph O'Meara, Philadelphia, Pennsylvania, Court of Federal Claims Number 04-1561V.

21. Paula and Joseph Scaccia on behalf of Aaron Scaccia, Philadelphia, Pennsylvania, Court of Federal Claims Number 04-1562V.

22. Stacy and Timothy Bruce on behalf of Daniel Bruce, Chicago, Illinois, Court of Federal Claims Number 04-1567V.

23. Jennifer and Edward McGinley on behalf of Shane McGinley, Philadelphia, Pennsylvania, Court of Federal Claims Number 04-1573V.

24. Julia Breitman on behalf of Jessica Breitman, Boston, Massachusetts, Court of Federal Claims Number 04-1578V.

25. Robin Vasquez on behalf of Zachary Vasquez, Boston, Massachusetts, Court of Federal Claims Number 04-1579V.

26. Julia Breitman on behalf of Ryan Breitman, Boston, Massachusetts, Court of Federal Claims Number 04-1580V.

27. Julia Breitman on behalf of Ashley Breitman, Boston, Massachusetts, Court of Federal Claims Number 04-1581V.

28. Jennifer Suppo on behalf of Rebecca Suppo, Boston, Massachusetts, Court of Federal Claims Number 04-1582V.

29. Jacqueline Forchetti on behalf of Peter Forchetti, Boston, Massachusetts, Court of Federal Claims Number 04-1583V.

30. Ivy Coppo on behalf of Cole Coppo, Boston, Massachusetts, Court of Federal Claims Number 04-1584V.

31. Beatrice Morse, Boston, Massachusetts, Court of Federal Claims Number 04-1585V.

32. Talona Wagoner on behalf of Steven Wagoner, Boston, Massachusetts, Court of Federal Claims Number 04-1591V.

33. Dr. Yuliya Dobrydneva and Dr. Boris Dobrydnev on behalf of Ilya Dobrydnev, Norfolk, Virginia, Court of Federal Claims Number 04-1593V.

34. Misty McAnally on behalf of Darrin James Piazza, Deceased, Galveston, Texas, Court of Federal Claims Number 04-1594V.

35. Grace and Mike Skrzypczak on behalf of Michael Skrzypczak, Philadelphia, Pennsylvania, Court of Federal Claims Number 04-1602V.

36. Rosemarie and George Melillo on behalf of Nicholas Melillo, Philadelphia, Pennsylvania, Court of Federal Claims Number 04-1603V.

37. Rachel and Ricky Oliver on behalf of Gabriel Oliver, Houston, Texas, Court of Federal Claims Number 04-1605V.

38. Patricia Rosselli, Boston, Massachusetts, Court of Federal Claims Number 04-1606V.

39. Rosemarie and George Melillo on behalf of Joseph Melillo, Philadelphia, Pennsylvania, Court of Federal Claims Number 04-1607V.

40. Stephanie and Justin Lansberg on behalf of Hunter Joseph Lansberg, Encino, California, Court of Federal Claims Number 04-1611V.

41. George McCormick, Bernardsville, New Jersey, Court of Federal Claims Number 04-1612V.

42. Ann and Richard Ballot on behalf of Jonathan Ballot, North Plainfield, New Jersey, Court of Federal Claims Number 04-1615V.

43. Ann and Richard Ballot on behalf of Michael Ballot, North Plainfield, New Jersey, Court of Federal Claims Number 04-1616V.

44. Alicia and Snardon on behalf of Zion Snardon, Louisville, Kentucky, Court of Federal Claims Number 04-1621V.

45. Joseph McNeil on behalf of Eduardo McNeil, Portland, Oregon, Court of Federal Claims Number 04-1623V.

46. Karen Keeley on behalf of Carson Keeley, Portland, Oregon, Court of Federal Claims Number 04-1624V.

47. Sara Landin on behalf of Izak Landin, Portland, Oregon, Court of Federal Claims Number 04-1625V.

48. Sandra Leon on behalf of James Leon, Portland, Oregon, Court of Federal Claims Number 04-1626V.

49. Sandra Leon on behalf of Jesse Leon, Portland, Oregon, Court of Federal Claims Number 04-1627V.

50. Vonna Brufach on behalf of Tyler Brufach, Portland, Oregon, Court of Federal Claims Number 04-1628V.

51. Cherri and William Cary on behalf of Benjamin Cary, Portland, Oregon, Court of Federal Claims Number 04-1629V.

52. Nicole Devries on behalf of James Devries, Portland, Oregon, Court of Federal Claims Number 04-1630V.

53. Karla Escalante on behalf of Adrian Escalante, Portland, Oregon, Court of Federal Claims Number 04-1631V.

54. Rebecca and Jack Estepp on behalf of Eric Estepp, Portland, Oregon, Court of Federal Claims Number 04-1632V.

55. Piedad Herrera on behalf of Alfonso Figueroa, Portland, Oregon, Court of Federal Claims Number 04-1633V.

56. Myriam and Curtis Helton on behalf of Kenneth Helton, Portland, Oregon, Court of Federal Claims Number 04-1634V.

57. Nanette Jimenez on behalf of Miguel Jimenez, Portland, Oregon, Court of Federal Claims Number 04-1635V.

58. Annette Reyes on behalf of Adrian Reyes, Jr., Portland, Oregon, Court of Federal Claims Number 04-1636V.

59. Christopher Reichert on behalf of Robert Reichert, II, Portland, Oregon, Court of Federal Claims Number 04-1637V.

60. Julie Hrabal on behalf of Jerry Van Norman, Portland, Oregon, Court of Federal Claims Number 04-1638V.

61. Deborah Findley on behalf of Andrew Findley, Portland, Oregon, Court of Federal Claims Number 04-1639V.

62. Crystal and Jason Warren on behalf of Esteban Warren, Portland, Oregon, Court of Federal Claims Number 04-1640V.

63. Silvia Townsend on behalf of Bailey Townsend, Portland, Oregon, Court of Federal Claims Number 04-1641V.

64. John Thompson on behalf of Katherine Thompson, Portland, Oregon, Court of Federal Claims Number 04-1642V.

65. Verlyn and Richard Simon on behalf of Jake Simon, Portland, Oregon, Court of Federal Claims Number 04-1643V.

66. Araceli Martinez on behalf of Dorian Rivas, Portland, Oregon, Court of Federal Claims Number 04-1644V.

67. Patricia Meyer on behalf of Shawn Meyer, Portland, Oregon, Court of Federal Claims Number 04-1645V.

68. Juan Medina on behalf of Juan H. Medina, Portland, Oregon, Court of Federal Claims Number 04-1646V.

69. Tami Bence on behalf of Arron Bence, Portland, Oregon, Court of Federal Claims Number 04-1647V.

70. Judith and Thomas Boyles on behalf of Hannah Boyles, Portland, Oregon, Court of Federal Claims Number 04-1648V.

71. Tina Martin on behalf of Alexander Martin, Portland, Oregon, Court of Federal Claims Number 04-1649V.

72. Illgenia Arias on behalf of Luis Arias, Portland, Oregon, Court of Federal Claims Number 04-1650V.

73. Richard Manzo on behalf of Albert Manzo, Portland, Oregon, Court of Federal Claims Number 04-1651V.

74. Linda Martin on behalf of Luke Martin, Portland, Oregon, Court of Federal Claims Number 04-1652V.

75. Meishan and Jingwen Cheng on behalf of Victor Weishan Cheng, Washington, D.C., Court of Federal Claims Number 04-1653V.

76. William Irvin, Boston, Massachusetts, Court of Federal Claims Number 04-1658V.

77. Elizabeth Perrong, Boston, Massachusetts, Court of Federal Claims Number 04-1659V.

78. Charles Ray McHargue on behalf of Sean McHargue, Springfield, Oregon, Court of Federal Claims Number 04-1664V.

79. Rhonda Wells on behalf of Kyle Wells, Portland, Oregon, Court of Federal Claims Number 04-1670V.

80. Tomie Glover on behalf of Julian Glover, Houston, Texas, Court of Federal Claims Number 04-1674V.

81. Shelia Bell on behalf of Bryce McCrum, Houston, Texas, Court of Federal Claims Number 04-1675V.

82. Sarah Morrison, Canton, Ohio, Court of Federal Claims Number 04-1683V.

83. Cami and David Carroll on behalf of Hayden Carroll, American Fork, Utah, Court of Federal Claims Number 04-1684V.

84. Lee Anne Battiston on behalf of Camille Anne Battiston, Boston, Massachusetts, Court of Federal Claims Number 04-1693V.

85. Andrea Brunath on behalf of Eric Brunath, Somers Point, New Jersey, Court of Federal Claims Number 04-1694V.

86. Robert Small on behalf of Eric Small, Boston, Massachusetts, Court of Federal Claims Number 04-1695V.

87. Philip Stein on behalf of Rose Stein, Boston, Massachusetts, Court of Federal Claims Number 04-1696V.

88. Maria Peterson on behalf of Michael Peterson, Boston, Massachusetts, Court of Federal Claims Number 04-1697V.

89. Maria Peterson on behalf of Kristin Peterson, Boston, Massachusetts, Court of Federal Claims Number 04-1698V.

90. John Logiudice on behalf of Gabriella Logiudice, Boston, Massachusetts, Court of Federal Claims Number 04-1699V.

91. Eileen and Edward Bowden on behalf of Jackson Bowden, Boston, Massachusetts, Court of Federal Claims Number 04-1700V.

92. Wendi Fauria on behalf of David Fauria, Boston, Massachusetts, Court of Federal Claims Number 04-1701V.

93. Ranee Gaines on behalf of Nehemiah Gaines, Boston, Massachusetts, Court of Federal Claims Number 04-1702V.

94. Robert Graves on behalf of Grace Graves, Boston, Massachusetts, Court of Federal Claims Number 04-1703V.

95. Ranee Gaines on behalf of Jeremiah Gaines, Boston, Massachusetts, Court of Federal Claims Number 04-1704V.

96. Sarah Walton on behalf of Devon Walton, Boston, Massachusetts, Court of Federal Claims Number 04-1705V.

97. Jeffrey Ames on behalf of Tessa Ames, Boston, Massachusetts, Court of Federal Claims Number 04-1706V.

98. Diane Cordick, Yuma, Arizona, Court of Federal Claims Number 04-1708V.

99. April and Timothy Davis on behalf of Timothy Wayne Davis, Jr., Deceased, Jasper, Alabama, Court of Federal Claims Number 04-1711V.

100. Yelena Dosheva on behalf of Michael Musienko, Lake Success, New York, Court of Federal Claims Number 04-1715V.

101. Ellena and Chris Prokopeas on behalf of Christian Alexander Prokopeas, Vienna, Virginia, Court of Federal Claims Number 04-1717V.

102. Margaret and Warren Minchew on behalf of James Stone Minchew, Douglas, Georgia, Court of Federal Claims Number 04-1721V.

103. Margaret and Warren Minchew on behalf of Warren J. Minchew, Douglas, Georgia, Court of Federal Claims Number 04-1722V.

104. Debra and Joseph Licata on behalf of Joseph Angelo Licata, Somers Point, New Jersey, Court of Federal Claims Number 04-1723V.

105. John Sustaita on behalf of Arilius Sustaita, Porter, Texas, Court of Federal Claims Number 04-1724V.

106. Joseph Williams, Alturas, California, Court of Federal Claims Number 04-1725V.

107. Leah and William Thomas on behalf of Michael Thomas, Deceased, Chester, Pennsylvania, Court of Federal Claims Number 04-1730V.

108. Penny Piva Rego, Providence, Rhode Island, Court of Federal Claims Number 04-1734V.

109. Kelly and David Winand on behalf of Paul Winand, Southborough, Massachusetts, Court of Federal Claims Number 04-1738V.

110. Guadalupe Haddock on behalf of Brendon Haddock, Boston, Massachusetts, Court of Federal Claims Number 04-1747V.

111. Lauren Marshall on behalf of Hannah Marschell, Boston, Massachusetts, Court of Federal Claims Number 04-1748V.

112. Erica White on behalf of Nyles White, Boston, Massachusetts, Court of Federal Claims Number 04-1749V.

113. Manzoor Chaudhury on behalf of Mysoon Chaudhury, Boston, Massachusetts, Court of Federal Claims Number 04-1750V.

114. Marjorie and L. Scott Whitaker on behalf of Lewis Edwin Whitaker, III, Washington, D.C., Court of Federal Claims Number 04-1752V.

115. Fred and Rhonda Buess on behalf of Frederick (Erick) Buess, Hemet, California, Court of Federal Claims Number 04-1753V.

116. Fred and Rhonda Buess on behalf of Anderson (Andy) Buess, Hemet, California, Court of Federal Claims Number 04-1754V.

117. Jie Birdsell on behalf of Heather Birdsell, Elgin, Illinois, Court of Federal Claims Number 04-1755V.

118. Paul and Brenda Bright on behalf of Zachary O'Neal Bright, Clifton, Texas, Court of Federal Claims Number 04-1758V.

119. Alison and David Schwartz on behalf of Alexa Schwartz, Lake Success, New York, Court of Federal Claims Number 04-1768V.

120. Darla Meyers on behalf of Matthew Meyers, Woodbury, Minnesota, Court of Federal Claims Number 04-1771V.

121. Tanya Noyakuk on behalf of McKenzy D. Ablowaluk, Deceased, Teller, Alaska, Court of Federal Claims Number 04-1772V.

122. Regina Riggins Holland on behalf of Hannah Riggins, Birmingham, Alabama, Court of Federal Claims Number 04-1773V.

123. Gregory Buckley on behalf of Connor Buckley, Boston, Massachusetts, Court of Federal Claims Number 04-1774V.

124. Elizabeth Thomassen on behalf of Hunter Thomassen, Boston, Massachusetts, Court of Federal Claims Number 04-1775V.

125. Amy Sullivan on behalf of Tiffany Sullivan, Boston, Massachusetts, Court of Federal Claims Number 04-1776V.

126. Beth Stansberry on behalf of Nathan Heagerty, Boston, Massachusetts, Court of Federal Claims Number 04-1777V.

127. Lynette and Charles Willard on behalf of Ronan Storm Willard, Alvin Texas, Court of Federal Claims Number 04-1778V.

128. Mary Ann and Matthew Hughes on behalf of Alexander Joseph Hughes, Houston, Texas, Court of Federal Claims Number 04-1779V.

129. Regina Pecorella, New York, New York, Court of Federal Claims Number 04-1781V.

130. Laurie and Christopher Thomas, on behalf of James Patrick Thomas, Jacksonville, Florida, Court of Federal Claims Number 04-1794V.

131. Juliet and Mohamed Edoo on behalf of Justin Edoo, Miami, Florida, Court of Federal Claims Number 04-1795V.

132. Kathryn and Peter Cooper on behalf of Christopher Cooper, Castle Rock, Colorado, Court of Federal Claims Number 04-1796V.

133. Olufunke Fadairo on behalf of Michael Fadairo, Baltimore, Maryland, Court of Federal Claims Number 04-1799V.

134. Jenette Price on behalf of Ricardo Ballenger, Baltimore, Maryland, Court of Federal Claims Number 04-1800V.

135. Kelly and John Gapp on behalf of Jessica Gapp, Baltimore, Maryland, Court of Federal Claims Number 04-1801V.

136. Virginia and William Goble on behalf of Brian Goble, Baltimore, Maryland, Court of Federal Claims Number 04-1802V.

137. Anna Silver on behalf of Dwayne Jones, Baltimore, Maryland, Court of Federal Claims Number 04-1803V.

138. James Kidd, Sr. on behalf of James Kidd, III, Baltimore, Maryland, Court of Federal Claims Number 04-1804V.

139. Cynthia and Christopher Kluetz on behalf of Kevin Kluetz, Baltimore, Maryland, Court of Federal Claims Number 04-1805V.

140. Michele and Gerald Lantz on behalf of Bradley Lantz, Baltimore, Maryland, Court of Federal Claims Number 04-1806V.

141. Cynthia McLeod on behalf of Colin McLeod, Baltimore, Maryland, Court of Federal Claims Number 04-1807V.

142. Shannon and Darryl Quick on behalf of Darryl Quick, Jr., Baltimore, Maryland, Court of Federal Claims Number 04-1808V.

143. Linda Deans on behalf of Daniel Quinn, Baltimore, Maryland, Court of Federal Claims Number 04-1809V.

144. Tanika Bias and Maurice Reed on behalf of Maurice Reed, Jr., Baltimore, Maryland, Court of Federal Claims Number 04-1810V.

145. Danielle Braxton on behalf of Wayne Reed, Baltimore, Maryland, Court of Federal Claims Number 04-1811V.

146. Robin and Clement Williams on behalf of Dakari Williams, Baltimore, Maryland, Court of Federal Claims Number 04-1812V.

147. Jeri Wiggins on behalf of Joshua Seamon-Wiggins, Baltimore, Maryland, Court of Federal Claims Number 04-1813V.

148. Judith and Errol Yankelove on behalf of Michael Yankelove, Baltimore, Maryland, Court of Federal Claims Number 04-1814V.

149. Robert Miller, Canton, Ohio, Court of Federal Claims Number 04-1816V.

150. Lisa and Christopher Kennedy on behalf of Shea Kennedy, Libertyville, Illinois, Court of Federal Claims Number 04-1817V.

151. Carola and Adam Coto on behalf of Michelle Coto, Houston, Texas, Court of Federal Claims Number 04-1826V.

152. Christina and Marty Poston on behalf of Christopher Poston, Houston, Texas, Court of Federal Claims Number 04-1827V.

153. Karen Daniel on behalf of Hunter Daniel Houston, Texas, Court of Federal Claims Number 04-1828V.

154. Sharmetta Smith and Eric Baublitz on behalf of Kobe Baublitz, Baltimore, Maryland, Court of Federal Claims Number 04-1829V.

155. Lori and Karl Shoffler on behalf of Kenneth Shoffler, Baltimore, Maryland, Court of Federal Claims Number 04-1830V.

156. Roxana and Luis Tirigall on behalf of Jorge Tirigall, Baltimore, Maryland, Court of Federal Claims Number 04-1831V.

157. Rhonda and Earl Walton on behalf of Earl F. Walton, V, Baltimore, Maryland, Court of Federal Claims Number 04-1832V.

158. Vicky Lafon on behalf of Scott Luke, Baltimore, Maryland, Court of Federal Claims Number 04-1833V.

159. Melissiaa Drew on behalf of D'Mante Mabry, Baltimore, Maryland, Court of Federal Claims Number 04-1834V.

160. Angelita Allen-Harrington on behalf of Aaron Jo-Von McCraw, Baltimore, Maryland, Court of Federal Claims Number 04-1835V.

161. Pamela and Cleveland Moore on behalf of Corey Moore, Baltimore, Maryland, Court of Federal Claims Number 04-1836V.

162. Angela and Neil Oxendine on behalf of Daniel Oxendine, Baltimore, Maryland, Court of Federal Claims Number 04-1837V.

163. Jessica Booth on behalf of Jacob Booth, Baltimore, Maryland, Court of Federal Claims Number 04-1838V.

164. Angela Douglas on behalf of Jacob Burall, Baltimore, Maryland, Court of Federal Claims Number 04-1839V.

165. Maria and Eduardo Camacho on behalf of Edward Camacho, Baltimore, Maryland, Court of Federal Claims Number 04-1840V.

166. Deborah and John Clutts on behalf of Matthew Clutts, Baltimore, Maryland, Court of Federal Claims Number 04-1841V.

167. Lucretia Cunningham on behalf of Joseph Cunningham, Baltimore, Maryland, Court of Federal Claims Number 04-1842V.

168. Melissa and Calvin Loveless on behalf of Nash Loveless, Baltimore, Maryland, Court of Federal Claims Number 04-1843V.

169. Jason Grimail, College Park, Maryland, Court of Federal Claims Number 04-1844V.

170. Jenny and Peter Hovanec on behalf of Hunter James Hovanec, Salisbury, North Carolina, Court of Federal Claims Number 05-0002V.

171. Shelley and Brett Dille on behalf of Walker Dille, Kansas City, Missouri, Court of Federal Claims Number 05-0006V.

172. Lawrence James-Bey, Fort Bragg, North Carolina, Court of Federal Claims Number 05-0010V.

173. Francesca and Ronald Sommerfeld on behalf of Ronald Sommerfeld, II, Houston, Texas, Court of Federal Claims Number 05-0013V.

174. Lidiya and Sergey Solonovich on behalf of Denis Solonovich, Houston, Texas, Court of Federal Claims Number 05-0014V.

175. Tanya and Thomas Stanley on behalf of Christopher Stanley, Jacksonville, Florida, Court of Federal Claims Number 05-0015V.

176. Joy Majzel on behalf of Jenna Majzel, Boston, Massachusetts, Court of Federal Claims Number 05-0016V.

177. Angel Allen on behalf of Raven Mo'nae Allen, Deceased, St. Louis, Missouri, Court of Federal Claims Number 05-0017V.

178. Vicky Lafon on behalf of Steven Luke, Baltimore, Maryland, Court of Federal Claims Number 05-0023V.

179. Tara and Clayton Kerns on behalf of Brooklyn Marie Kerns, Deceased, Winchester, West Virginia, Court of Federal Claims Number 05-0029V.

180. Lisa and Michael Goodbread on behalf of James Goodbread, Jacksonville, Florida, Court of Federal Claims Number 05-0030V.

181. Carmela and Rigoberto Garnica on behalf of Esther Garnica, Portland, Oregon, Court of Federal Claims Number 05-0031V.

182. Angelica Patino on behalf of Marissa Boyzo, Portland, Oregon, Court of Federal Claims Number 05-0032V.

183. Maria Garcia on behalf of Antonio Garcia, Portland, Oregon, Court of Federal Claims Number 05-0033V.

184. Anna Ordonez on behalf of Victor Ordonez, Portland, Oregon, Court of Federal Claims Number 05-0034V.

185. Della Harlston on behalf of D'Angelo Harlston, Portland, Oregon, Court of Federal Claims Number 05-0035V.

186. Veronica Gonzalez on behalf of Nicholas Gonzalez, Portland, Oregon, Court of Federal Claims Number 05-0036V.

187. Miranda Bowman on behalf of Derek Bowman, Portland, Oregon, Court of Federal Claims Number 05-0037V.

188. Berta Orona on behalf of Jacob Orona, Portland, Oregon, Court of Federal Claims Number 05-0038V.

189. Alan Moore on behalf of Matthew Moore, Portland, Oregon, Court of Federal Claims Number 05-0039V.

190. Sandra Alfaro on behalf of Ryan Alfaro, Portland, Oregon, Court of Federal Claims Number 05-0040V.

191. Myeisha Ligons on behalf of Trenazia Bennett, Portland, Oregon, Court of Federal Claims Number 05-0041V.

192. Lissa Beach on behalf of Drake Beach, Portland, Oregon, Court of Federal Claims Number 05-0042V.

193. Frances Thompson-Diggs on behalf of Eric Diggs, Portland, Oregon, Court of Federal Claims Number 05-0043V.

194. Melanie Flores on behalf of Austen Flores, Portland, Oregon, Court of Federal Claims Number 05-0044V.

195. Claudia Deloera on behalf of Adrian Deloera, Portland, Oregon, Court of Federal Claims Number 05-0045V.

196. Deborah Karr and Dan Arroway on behalf of Levantia Arroway, Portland, Oregon, Court of Federal Claims Number 05-0046V.

197. Jody Hansen on behalf of Alec Hansen, Portland, Oregon, Court of Federal Claims Number 05-0047V.

198. Jodi McCoy on behalf of Ryan McCoy, Portland, Oregon, Court of Federal Claims Number 05-0048V.

199. Lucy Castorena on behalf of Christian Castorena, Portland, Oregon, Court of Federal Claims Number 05-0049V.

200. Karla Escalante on behalf of Julio Escalante, Portland, Oregon, Court of Federal Claims Number 05-0050V.

201. Karla James on behalf of Trent James, Portland, Oregon, Court of Federal Claims Number 05-0051V.

202. Javier Jimenez on behalf of Adrain Jimenez, Portland, Oregon, Court of Federal Claims Number 05-0052V.

203. Trina McCurdy on behalf of Cameron Garrido, Portland, Oregon, Court of Federal Claims Number 05-0053V.

204. Lorena Morales on behalf of Matthew Morales, Portland, Oregon, Court of Federal Claims Number 05-0054V.

205. Laura Cervantes on behalf of Ricardo Cervantes, Portland, Oregon, Court of Federal Claims Number 05-0055V.

206. Anita and Jesus Cazares on behalf of Jesus Cazares, III, Portland, Oregon, Court of Federal Claims Number 05-0056V.

207. Heather Avila on behalf of Brian Avila, Portland, Oregon, Court of Federal Claims Number 05-0057V.

208. Patricia Borgstahl on behalf of Joseph Fricks, Portland, Oregon, Court of Federal Claims Number 05-0058V.

209. Ramona Floyd on behalf of Xavier Cunningham, Portland, Oregon, Court of Federal Claims Number 05-0059V.

210. Robert Nichols on behalf of Sean Nichols, Portland, Oregon, Court of Federal Claims Number 05-0060V.

211. Gina Cayanan on behalf of Nathaniel Cayanan, Portland, Oregon, Court of Federal Claims Number 05-0061V.

212. Elaine Jacoby on behalf of Joshua Jacoby, Portland, Oregon, Court of Federal Claims Number 05-0062V.

213. Olga Hart on behalf of Kyle Hart, Portland, Oregon, Court of Federal Claims Number 05-0063V.

214. Cristina Duran on behalf of Christiana Duran, Portland, Oregon, Court of Federal Claims Number 05-0064V.

215. Jacqueline Cazares on behalf of Zachary Gonzalez, Portland, Oregon, Court of Federal Claims Number 05-0065V.

216. Barbara Leigh on behalf of Matthew Leigh, Portland, Oregon, Court of Federal Claims Number 05-0066V.

217. Meryl Lewin on behalf of Marki Lewin-Welsh, Portland, Oregon, Court of Federal Claims Number 05-0067V.

218. Susana Martin Del Campo on behalf of Alex Martin Del Campo, Portland, Oregon, Court of Federal Claims Number 05-0068V.

219. Leticia Montes on behalf of Mark Montes, Portland, Oregon, Court of Federal Claims Number 05-0069V.

220. John McFaddin on behalf of Justin McFaddin, Portland, Oregon, Court of Federal Claims Number 05-0070V.

221. Melanie Lima on behalf of Derek Lima, Portland, Oregon, Court of Federal Claims Number 05-0071V.

222. Saba Seyoum on behalf of Danaie Kiflom, Portland, Oregon, Court of Federal Claims Number 05-0072V.

223. Luisa Jacques on behalf of Anthony Jacques, Portland, Oregon, Court of Federal Claims Number 05-0073V.

224. Teresita Echeverria on behalf of Esteban Garcia, Portland, Oregon, Court of Federal Claims Number 05-0074V.

225. Gloria Florez on behalf of Carlos Cano, Portland, Oregon, Court of Federal Claims Number 05-0075V.

226. Julie Loguidice on behalf of Michael Loguidice, Portland, Oregon, Court of Federal Claims Number 05-0076V.

227. Aida Hernandez on behalf of Marcos Hernandez, Portland, Oregon, Court of Federal Claims Number 05-0077V.

228. Noreen Alexander on behalf of Bryce Alexander, Portland, Oregon, Court of Federal Claims Number 05-0078V.

229. Leticia Montes on behalf of Richard Montes, Portland, Oregon, Court of Federal Claims Number 05-0079V.

230. Audri and Joseph Ence on behalf of Dean Clayton Ence, Salt Lake City, Utah, Court of Federal Claims Number 05-0080V.

231. April Spates on behalf of John/Jane Doe, Deceased, New York, New York, Court of Federal Claims Number 05-0081V.

232. Denise Trejo on behalf of Danielle Trejo, Portland, Oregon, Court of Federal Claims Number 05-0083V.

233. Donna Vannieuwenhuyzen on behalf of David Vannieuwenhuyzen, Portland, Oregon, Court of Federal Claims Number 05-0084V.

234. Carla Wickey on behalf of Matthew Wickey, Portland, Oregon, Court of Federal Claims Number 05-0085V.

235. Rikki Zeller on behalf of Joseph Zeller, Portland, Oregon, Court of Federal Claims Number 05-0086V.

236. Gloria Paulin on behalf of Abisai Paulin, Portland, Oregon, Court of Federal Claims Number 05-0087V.

237. Ileana Linares on behalf of Lee Ann Rivera, Portland, Oregon, Court of Federal Claims Number 05-0088V.

238. Zakiyyah Rashada on behalf of Jamal Rashada, Portland, Oregon, Court of Federal Claims Number 05-0089V.

239. Amanda Zimmerman on behalf of Joseph Pinedo, Portland, Oregon, Court of Federal Claims Number 05-0090V.

240. David Wilcox on behalf of Timothy Wilcox, Portland, Oregon, Court of Federal Claims Number 05-0091V.

241. Thomas Welsh on behalf of Kaitlynn Welsh, Portland, Oregon, Court of Federal Claims Number 05-0092V.

242. Solveig Toft on behalf of George Toft, Portland, Oregon, Court of Federal Claims Number 05-0093V.

243. Olivia Galeana on behalf of Eduardo Totorika, Portland, Oregon, Court of Federal Claims Number 05-0094V.

244. Francine Toro on behalf of Nathan Toro, Portland, Oregon, Court of Federal Claims Number 05-0095V.

245. Hector Talamentes on behalf of Kathleen Talamentes, Portland, Oregon, Court of Federal Claims Number 05-0096V.

246. Brad Secreto on behalf of Jessica Secreto, Portland, Oregon, Court of Federal Claims Number 05-0097V.

247. Brad Secreto on behalf of Jacob Secreto, Portland, Oregon, Court of Federal Claims Number 05-0098V.

248. Rosa Sanchez on behalf of Andres Sanchez, Portland, Oregon, Court of Federal Claims Number 05-0099V.

249. Isaura Sainz on behalf of Daniel Sainz, Portland, Oregon, Court of Federal Claims Number 05-0100V.

250. Verlyn and Richard Simon on behalf of Tyler Simon, Portland, Oregon, Court of Federal Claims Number 05-0101V.

251. Kathryn Roberts on behalf of Joseph Roberts, Portland, Oregon, Court of Federal Claims Number 05-0102V.

252. Carolyn Parkinson on behalf of Derek Parkinson, Portland, Oregon, Court of Federal Claims Number 05-0103V.

253. Amy Putnam on behalf of Christian Putnam, Portland, Oregon, Court of Federal Claims Number 05-0104V.

254. David Rudolph on behalf of Nathaniel Rudolph, Portland, Oregon, Court of Federal Claims Number 05-0105V.

255. Kathy Bovenizi and Paul Grugnale on behalf of Peter Grugnale, New York, New York, Court of Federal Claims Number 05-0108V.

256. Toni Richard on behalf of Tyler Richard, Boston, Massachusetts, Court of Federal Claims Number 05-0109V.

257. Shannon Barnett on behalf of Nathaniel Barnett, Boston, Massachusetts, Court of Federal Claims Number 05-0110V.

258. Tamar Tamir on behalf of Yotam Galili, Boston, Massachusetts, Court of Federal Claims Number 05-0111V.

259. Maureen Brown on behalf of Brighton Brown, Boston, Massachusetts, Court of Federal Claims Number 05-0112V.

260. Jessica Williams on behalf of Jacob Matthew Williams, Bloomington, Indiana, Court of Federal Claims Number 05-0113V.

261. Candace and Mark Bender on behalf of Zachary Bender, Philadelphia, Pennsylvania, Court of Federal Claims Number 05-0116V.

262. Carole and Walter Smith on behalf of Michael Smith, Jacksonville, Florida, Court of Federal Claims Number 05-0122V.

263. Jody Nordwall and Jose Tori on behalf of Mateo Alberto Tori, Deceased, Minneapolis, Minnesota, Court of Federal Claims Number 05-0123V.

264. Sabrina and Mark Pedeupe on behalf of Luke Pedeupe, Van Nuys, California, Court of Federal Claims Number 05-0125V.

265. Jessica and Eric Schimmoeller on behalf of Sydney Schimmoeller, Van Nuys, California, Court of Federal Claims Number 05-0126V.

266. Loree Hemachandra on behalf of Nicholas Hemachandra, Boston, Massachusetts, Court of Federal Claims Number 05-0129V.

267. Trisha Bellaire on behalf of Brayden Bellaire, Boston, Massachusetts, Court of Federal Claims Number 05-0130V.

268. Michelle McQuillen on behalf of Kaitlyn McQuillen, Boston, Massachusetts, Court of Federal Claims Number 05-0131V.

269. Sarah Ghaleb on behalf of Abdulkarim Hamouda, Boston, Massachusetts, Court of Federal Claims Number 05-0132V.

270. Abdul Jaman on behalf of Farman Karim, Boston, Massachusetts, Court of Federal Claims Number 05-0133V.

271. Mary Yenchick-Balos on behalf of Michaela Balos, Boston, Massachusetts, Court of Federal Claims Number 05-0134V.

272. Alicia Sanchez on behalf of Knicholas Lombard, Boston, Massachusetts, Court of Federal Claims Number 05-0135V.

273. Laura Holt on behalf of Aleigha Holt-Tipton, Boston, Massachusetts, Court of Federal Claims Number 05-0136V.

274. David Gregory on behalf of Sarah Gregory, Boston, Massachusetts, Court of Federal Claims Number 05-0137V.

275. Kathleen Stapleford on behalf of John Stapleford, Boston, Massachusetts, Court of Federal Claims Number 05-0138V.

276. Shelly Smith on behalf of Erik Walker, Boston, Massachusetts, Court of Federal Claims Number 05-0139V.

277. Yolanda Benjamin on behalf of Rashad Foster, Boston, Massachusetts, Court of Federal Claims Number 05-0140V.

278. Serena Albright on behalf of Demetri Landell, Boston, Massachusetts, Court of Federal Claims Number 05-0141V.

279. Rebecca Crum on behalf of Zakry Crum, Portland, Oregon, Court of Federal Claims Number 05-0144V.

280. Laura Cochran on behalf of Sean Cochran, Portland, Oregon, Court of Federal Claims Number 05-0145V.

281. Cynthia Bush on behalf of Straven Bush, Portland, Oregon, Court of Federal Claims Number 05-0146V.

282. Lisandra and David Adams on behalf of Lucas Adams, Portland, Oregon, Court of Federal Claims Number 05-0147V.

283. Teena Echols on behalf of Christopher Echols, Portland, Oregon, Court of Federal Claims Number 05-0148V.

284. Jody Gramson on behalf of Emery Gramson, Portland, Oregon, Court of Federal Claims Number 05-0149V.

285. Cathy Heirigs on behalf of Ryan Heirigs, Portland, Oregon, Court of Federal Claims Number 05-0150V.

286. Audrey Hernandez on behalf of Omar Hernandez, Portland, Oregon, Court of Federal Claims Number 05-0151V.

287. Ruth Kuenzi on behalf of Daniel Kuenzi, Portland, Oregon, Court of Federal Claims Number 05-0152V.

288. Kimberly Litchman on behalf of Daniel Litchman, Portland, Oregon, Court of Federal Claims Number 05-0153V.

289. Darcie Meier on behalf of Jon Meier, Portland, Oregon, Court of Federal Claims Number 05-0154V.

290. Raelene Olson-Smith on behalf of Kimberlee Smith, Portland, Oregon, Court of Federal Claims Number 05-0155V.

291. Jennifer Osburn on behalf of Thain Palmer, Portland, Oregon, Court of Federal Claims Number 05-0156V.

292. Sarah Stiles on behalf of Paladin Stiles, Portland, Oregon, Court of Federal Claims Number 05-0157V.

293. Autumn Smith on behalf of Andre Huggins, Portland, Oregon, Court of Federal Claims Number 05-0158V.

294. Brandi and Matthew Gross on behalf of Reed Gross, Portland, Oregon, Court of Federal Claims Number 05-0159V.

295. Rhonda Way on behalf of Tyler Way, Portland, Oregon, Court of Federal Claims Number 05-0160V.

296. Teresa Soler on behalf of Dylan Dunbar, Portland, Oregon, Court of Federal Claims Number 05-0161V.

297. Debora and John Durden on behalf of Jonathan Durden, Columbus, Georgia, Court of Federal Claims Number 05-0163V.

298. Penelope Olson, Attleboro, Massachusetts, Court of Federal Claims Number 05-0164V.

299. Carmen and Raymond Brennan on behalf of Tiana Brennan, Somers Point, New Jersey, Court of Federal Claims Number 05-0165V.

300. Lisa Knight, St. Peters, Michigan, Court of Federal Claims Number 05-0169V.

301. Lydia Nioras on behalf of Richard Thomas Nioras, Somers Point, New Jersey, Court of Federal Claims Number 05-0172V.

302. Jennifer and Seth Lackey on behalf of Aaron Lackey, Boston, Massachusetts, Court of Federal Claims Number 05-0175V.

303. Lynn Roccapriore on behalf of Evan Roccapriore, Boston, Massachusetts, Court of Federal Claims Number 05-0176V.

304. Diane Davison on behalf of Joseph Davison, Boston, Massachusetts, Court of Federal Claims Number 05-0177V.

305. John Berthoumieux on behalf of Samuel Berthoumieux, Boston, Massachusetts, Court of Federal Claims Number 05-0178V.

306. Suzette Rogers on behalf of Carol Stenson, Deceased, Killeen, Texas, Court of Federal Claims Number 05-0180V.

307. Allison Alejos on behalf of Joel Nathanial Alejos, Topeka, Kansas, Court of Federal Claims Number 05-0181V.

308. Lizette and Michael Diaz on behalf of Matthew Diaz, Houston, Texas, Court of Federal Claims Number 05-0182V.

309. Heather and James Starnes on behalf of James Starnes, Rolla, Missouri, Court of Federal Claims Number 05-0185V.

310. Ottoniel Barrios on behalf of Edgar Alexander Barrios, Berryville, Arkansas, Court of Federal Claims Number 05-0189V.

311. Lori and Ricky Woodard on behalf of Justus Woodard, Jacksonville, Florida, Court of Federal Claims Number 05-0191V.

312. Louise and Michael Irvin on behalf of Liam Michael Irvin, Philadelphia, Pennsylvania, Court of Federal Claims Number 05-0192V.

313. Latricia Hewings on behalf of Miles Lee Williams, Deceased, Milwaukee, Wisconsin, Court of Federal Claims Number 05-0193V.

314. Dawn and Luke Herbert on behalf of Alexander Herbert, New Orleans, Louisiana, Court of Federal Claims Number 05-0202V.

315. Margaret Sarif, Salona Beach, California, Court of Federal Claims Number 05-0203V.

316. Lisa Canepa-Sanchez and Armando Sanchez on behalf of Salina Sanchez, New York, New York, Court of Federal Claims Number 05-0204V.

317. Amy and David Kline on behalf of Alyssa Kline, Carlinville, Illinois, Court of Federal Claims Number 05-0206V.

318. Christina and Kristopher Richard Young on behalf of Kristopher Logan Young, Vienna, Virginia, Court of Federal Claims Number 05-0207V.

319. Tara Glaspie on behalf of Brendan Glaspie, Boston, Massachusetts, Court of Federal Claims Number 05-0208V.

320. Karen Bortolotti on behalf of Daniel Bortolotti, Boston, Massachusetts, Court of Federal Claims Number 05-0209V.

321. James Grundvig on behalf of Fridrik Grundvig, Boston, Massachusetts, Court of Federal Claims Number 05-0210V.

322. Jennifer Demaria on behalf of Ryder Demaria, Boston, Massachusetts, Court of Federal Claims Number 05-0211V.

323. Nathalie Xavier on behalf of Jamal Bouaichi, Boston, Massachusetts, Court of Federal Claims Number 05-0212V.

324. Christine Hertzog on behalf of Nicholas Hertzog, Deceased, Boston, Massachusetts, Court of Federal Claims Number 05-0213V.

325. Jennifer Ross on behalf of Nicholas Ross-Sigurdson, Dearborn, Michigan, Court of Federal Claims Number 05-0218V.

326. Catherine and Joseph Shea on behalf of Ian Shea, Alpharentta, Georgia, Court of Federal Claims Number 05-0224V.

327. Laverne Waters on behalf of Laquine Waters, Somers Point, New Jersey, Court of Federal Claims Number 05-0225V.

328. Christopher Utset, Somers Point, New Jersey, Court of Federal Claims Number 05-0226V.

329. Charmain Neary and Gerard Gardiner on behalf of Charles Russell Gardiner, Lake Success, New York, Court of Federal Claims Number 05-0227V.

330. Kelley and Matt Nestlen on behalf of Daniel Nestlen, Portland, Oregon, Court of Federal Claims Number 05-0229V.

331. Mary Darin Wilkerson on behalf of Otto Wilkerson, Tigard, Oregon, Court of Federal Claims Number 05-0232V.

332. Pamela Brown on behalf of Gavriel Brown, Somers Point, New Jersey, Court of Federal Claims Number 05-0233V.

333. James Thiel, Fort Benning, Georgia, Court of Federal Claims Number 05-0235V.

334. Melanie and Mark Conover on behalf of Zachary Thomas Conover, Penfield, New York, Court of Federal Claims Number 05-0236V.

335. Kathleen and Michael Harvey on behalf of Luke Harvey, Lake Success, New York, Court of Federal Claims Number 05-0237V.

336. Kenneth Carr on behalf of Tyler Carr, Boston, Massachusetts, Court of Federal Claims Number 05-0238V.

337. Johanna Miller on behalf of Noah Miller, Boston, Massachusetts, Court of Federal Claims Number 05-0239V.

338. Johanna Miller on behalf of Mallorie Miller, Boston, Massachusetts, Court of Federal Claims Number 05-0240V.

339. Jeffrey Zaskoda, Boston, Massachusetts, Court of Federal Claims Number 05-0241V.

340. Shirley Smith on behalf of Jordan Smith, Tonasket, Washington, Court of Federal Claims Number 05-0242V.

341. John Drake, Detroit, Michigan, Court of Federal Claims Number 05-0245V.

342. Esther Andre and Jackson Marcelin on behalf of Tyler Anthony Joseph, Altamonte, Florida, Court of Federal Claims Number 05-0247V.

343. Wayne Michael Wanke, Loma Linda, California, Court of Federal Claims Number 05-0253V.

344. Paula Rokusek on behalf of Justin Rokusek, Boston, Massachusetts, Court of Federal Claims Number 05-0254V.

345. Peter Barelski, II on behalf of Peter Barelski, III, Boston, Massachusetts, Court of Federal Claims Number 05-0255V.

346. Rona Hatcher on behalf of Nicholas Hatcher, Boston, Massachusetts, Court of Federal Claims Number 05-0256V.

347. Muhammud Alturbak on behalf of Ali Alturbak, Boston, Massachusetts, Court of Federal Claims Number 05-0257V.

348. Daniel Cavallini on behalf of Andrew Cavallini, Boston, Massachusetts, Court of Federal Claims Number 05-0258V.

349. Julie Menger on behalf of Jackson Menger, Boston, Massachusetts, Court of Federal Claims Number 05-0259V.

350. Mark Taube on behalf of Lucas Taube, Boston, Massachusetts, Court of Federal Claims Number 05-0260V.

351. Tara Buran on behalf of Amelia Buran, Boston, Massachusetts, Court of Federal Claims Number 05-0261V.

352. Kendra Britton, Fredericksburg, Virginia, Court of Federal Claims Number 05-0264V.

353. Maureen and Steven Block on behalf of Nathaniel Block, New York, New York, Court of Federal Claims Number 05-0265V.

354. Carmel and Bob Mooney on behalf of Elizabeth Mooney, Baton Rouge, Louisiana, Court of Federal Claims Number 05-0266V.

355. Lisa and Joseph Dent on behalf of Jacoby Chandler Dent, Somers Point, New Jersey, Court of Federal Claims Number 05-0267V.

356. Sandra Jackson, Chicago, Illinois, Court of Federal Claims Number 05-0277V.

357. Ann and Dale Hatt on behalf of Andrew Hatt, Philadelphia, Pennsylvania, Court of Federal Claims Number 05-0282V.

358. Gerald Dempsey on behalf of Liam Dempsey, Deceased, Andover, Massachusetts, Court of Federal Claims Number 05-0283V.

359. Tracie and Rodney Smith on behalf of Aaron Michael Smith, Somers Point, New Jersey, Court of Federal Claims Number 05-0285V.

360. Adrienne Wanless, Winchester, Virginia, Court of Federal Claims Number 05-0286V.

361. Rada Livits on behalf of Benjamin Livits, Boston, Massachusetts, Court of Federal Claims Number 05-0287V.

362. Tina Kessler on behalf of Tyler Kessler, Boston, Massachusetts, Court of Federal Claims Number 05-0288V.

363. Amy Mahoney on behalf of Andrew Mahoney, Boston, Massachusetts, Court of Federal Claims Number 05-0289V.

364. Erica Caban on behalf of Destiny Rodriguez, Boston, Massachusetts, Court of Federal Claims Number 05-0290V.

365. Kimberly Hale on behalf of Jillien Noble, Boston, Massachusetts, Court of Federal Claims Number 05-0291V.

366. Galit Aronson on behalf of Benjamin Aronson, Boston, Massachusetts, Court of Federal Claims Number 05-0292V.

367. Amy Groch on behalf of Devin Groch, Boston, Massachusetts, Court of Federal Claims Number 05-0293V.

368. Pamela Ford on behalf of Bryan Ford, Boston, Massachusetts, Court of Federal Claims Number 05-0294V.

369. Tanya Weeks on behalf of Te'Sijah weeks, Deceased, St. Thomas, Virgin Islands, Court of Federal Claims Number 05-0295V.

370. Christine and Christian Florea on behalf of Nicolas Florea, Vienna, Virginia, Court of Federal Claims Number 05-0305V.

371. Kimberly Burshiem and Gus Deribeaux on behalf of Madison Deribeaux, Vienna, Virginia, Court of Federal Claims Number 05-0306V.

372. Amy Desrosiers on behalf of James Hutchison, Baltimore, Maryland, Court of Federal Claims Number 05-0308V.

373. Melinda Hughes on behalf of Jeremy Hughes, Baltimore, Maryland, Court of Federal Claims Number 05-0309V.

374. Nancy Spencer on behalf of Julian Rodriguez, Baltimore, Maryland, Court of Federal Claims Number 05-0310V.

375. Michelle and Michael Renggli on behalf of Joshua Renggli, Baltimore, Maryland, Court of Federal Claims Number 05-0311V.

376. Cydney and Darryl Piesto on behalf of Chase Piesto, Baltimore, Maryland, Court of Federal Claims Number 05-0312V.

377. Jenny Hansen on behalf of Steven Hansen, Baltimore, Maryland, Court of Federal Claims Number 05-0313V.

378. Michael Frost on behalf of Zachary Frost, Baltimore, Maryland, Court of Federal Claims Number 05-0314V.

379. Bendetta Formen on behalf of Deonte Formen, Baltimore, Maryland, Court of Federal Claims Number 05-0315V.

380. Eudora Harvey on behalf of Gerard Finney, Baltimore, Maryland, Court of Federal Claims Number 05-0316V.

381. Reza and Mina Fakory on behalf of Bijan Fakory, Baltimore, Maryland, Court of Federal Claims Number 05-0317V.

382. Catherine and James Everhart on behalf of Catherine “CJ” Everhart, Baltimore, Maryland, Court of Federal Claims Number 05-0318V.

383. Annette and Victor Elliott on behalf of Andrew Elliott, Baltimore, Maryland, Court of Federal Claims Number 05-0319V.

384. Angela and David Baker on behalf of Aaron Baker, Baltimore, Maryland, Court of Federal Claims Number 05-0320V.

385. Thoko Alleman on behalf of Dominick Alleman, Baltimore, Maryland, Court of Federal Claims Number 05-0321V.

386. Thoko Alleman on behalf of Dexter Alleman, Baltimore, Maryland, Court of Federal Claims Number 05-0322V.

387. Farah Youssefi on behalf of Joseph Youssefi, Baltimore, Maryland, Court of Federal Claims Number 05-0323V.

388. Renee and James Whitfield on behalf of Christopher Whitfield, Baltimore, Maryland, Court of Federal Claims Number 05-0324V.

389. Valerie Wells on behalf of Jordon Wells, Baltimore, Maryland, Court of Federal Claims Number 05-0325V.

390. Celestine and Anthonia Umeh on behalf of Kelo Umeh, Baltimore, Maryland, Court of Federal Claims Number 05-0326V.

391. Carol Levine on behalf of Alex Trainor, Baltimore, Maryland, Court of Federal Claims Number 05-0327V.

392. Felicia Thompson on behalf of Larkin Thompson, Baltimore, Maryland, Court of Federal Claims Number 05-0328V.

393. Danielle and Cary Stanger on behalf of Rebekah Stanger, Baltimore, Maryland, Court of Federal Claims Number 05-0329V.

394. Brenda Niemczuk on behalf of Darren Niemczuk, Baltimore, Maryland, Court of Federal Claims Number 05-0330V.

395. Ann Neboh on behalf of Udoka Neboh, Baltimore, Maryland, Court of Federal Claims Number 05-0331V.

396. Rosemary and Thomas Mitchell on behalf of Jeremy Mitchell, Baltimore, Maryland, Court of Federal Claims Number 05-0332V.

397. Tamara Minarik on behalf of Shea Minarik, Baltimore, Maryland, Court of Federal Claims Number 05-0333V.

398. Ranju Kohli on behalf of Angud Kohli, Baltimore, Maryland, Court of Federal Claims Number 05-0334V.

399. Barbara McDowell on behalf of Bryan Johnson, Baltimore, Maryland, Court of Federal Claims Number 05-0335V.

400. Jennifer Vittoria on behalf of Nicholas Vittoria, Baltimore, Maryland, Court of Federal Claims Number 05-0336V.

401. Charmia Swann on behalf of Tenashia Swann, Baltimore, Maryland, Court of Federal Claims Number 05-0337V.

402. Jacqueline and Sherman Spruell on behalf of Bradley Spruell, Baltimore, Maryland, Court of Federal Claims Number 05-0338V.

403. Sharon and Mike Skoczynski on behalf of Steven Skoczynski, Baltimore, Maryland, Court of Federal Claims Number 05-0339V.

404. Unoma and Mike Okigbo on behalf of Onyekachi Okigbo, Baltimore, Maryland, Court of Federal Claims Number 05-0340V.

405. Olusegun and Adeyinka Ogunniyi on behalf of Eric Ogunniyi, Baltimore, Maryland, Court of Federal Claims Number 05-0341V.

406. Monica and James Nwokeabia on behalf of Nelson Nwokeabia, Baltimore, Maryland, Court of Federal Claims Number 05-0342V.

407. Philo Moghalu on behalf of Nkemjurum Moghalu, Baltimore, Maryland, Court of Federal Claims Number 05-0343V.

408. Jacqueline and Christopher Means on behalf of Tyler Means, Baltimore, Maryland, Court of Federal Claims Number 05-0344V.

409. Cathy McGowan on behalf of Kenny McGowan, Baltimore, Maryland, Court of Federal Claims Number 05-0345V.

410. Danyelle Davis on behalf of Antar McDowell, Baltimore, Maryland, Court of Federal Claims Number 05-0346V.

411. Katherine and William Laisure on behalf of Zachary Laisure, Baltimore, Maryland, Court of Federal Claims Number 05-0347V.

412. Frances and John Kusik on behalf of John Kusik, IV, Baltimore, Maryland, Court of Federal Claims Number 05-0348V.

413. Katrina Brown on behalf of Terrell Keene, Baltimore, Maryland, Court of Federal Claims Number 05-0349V.

414. Dana Jones on behalf of Taki Jones, Baltimore, Maryland, Court of Federal Claims Number 05-0350V.

415. Pamela and Todd Johnson on behalf of Bryce Johnson, Baltimore, Maryland, Court of Federal Claims Number 05-0351V.

416. Sabrina Murphy on behalf of Tyler Jackson, Baltimore, Maryland, Court of Federal Claims Number 05-0352V.

417. Tammy Williams on behalf of Darrius Holloway, Baltimore, Maryland, Court of Federal Claims Number 05-0353V.

418. Fatima and David Hoggan on behalf of Lila Hoggan, Baltimore, Maryland, Court of Federal Claims Number 05-0354V.

419. Krystal and Clinton Harris on behalf of Michael Harris, Baltimore, Maryland, Court of Federal Claims Number 05-0355V.

420. Monica and William Haas on behalf of Collin Haas, Baltimore, Maryland, Court of Federal Claims Number 05-0356V.

421. Hildy and Mark Gordon on behalf of Joshua Gordon, Baltimore, Maryland, Court of Federal Claims Number 05-0357V.

422. Lori Good on behalf of Michael Good, Baltimore, Maryland, Court of Federal Claims Number 05-0358V.

423. Towanda Okeke Shackleford on behalf of Jean Denis, Baltimore, Maryland, Court of Federal Claims Number 05-0359V.

424. Andrea McDonald and Tuan Davis on behalf of De'Andre Davis, Baltimore, Maryland, Court of Federal Claims Number 05-0360V.

425. Thomasyn Anderson on behalf of Brandon Crank, Baltimore, Maryland, Court of Federal Claims Number 05-0361V.

426. Melinda Elliott and William Cassano on behalf of Brian Cassano, Baltimore, Maryland, Court of Federal Claims Number 05-0362V.

427. Rose Gouker on behalf of Devin Bocklage, Baltimore, Maryland, Court of Federal Claims Number 05-0363V.

428. Eileen Hall on behalf of Kenneth Arroyo, Baltimore, Maryland, Court of Federal Claims Number 05-0364V.

429. Mary Gilbert and Ambrose Agbebaku on behalf of Allen Agbebaku, Baltimore, Maryland, Court of Federal Claims Number 05-0365V.

430. Amanda and Leigh Richard Messer on behalf of Trey Robert Messer, Bloomington, Indiana, Court of Federal Claims Number 05-0366V.

431. Beth Gordon, Boca Raton, Florida, Court of Federal Claims Number 05-0378V.

432. Sandra and Captain Brian Alverson on behalf of Annabrooke Alverson, Birmingham, Alabama, Court of Federal Claims Number 05-0383V.

433. Anthony Elbert, Westchester, New York, Court of Federal Claims Number 05-0384V.

434. Carole and Daniel Hackney on behalf of Daniel Ignatius Hackney, Cape Girardeau, Missouri, Court of Federal Claims Number 05-0387V.

435. Noelle Jones on behalf of Patrick Hughes, Baltimore, Maryland, Court of Federal Claims Number 05-0388V.

436. Janet and Jonathan Levins on behalf of Jake Levins, Somers Point, New Jersey, Court of Federal Claims Number 05-0389V.

437. Daniel Bornhorst, Albany, New York, Court of Federal Claims Number 05-0390V.

438. Lee Ann Kay on behalf of Mason Kay, Boston, Massachusetts, Court of Federal Claims Number 05-0393V.

439. Wendy Bengtson on behalf of Brian Bengston, Boston, Massachusetts, Court of Federal Claims Number 05-0394V.

440. Rebecca Jackson, Fresno, California, Court of Federal Claims Number 05-0395V.

441. Debra Comer on behalf of Jacob Eli Malcom, Port Washington, New York, Court of Federal Claims Number 05-0398V.

442. Wendy Kumar and Kishore Gosein on behalf of Daryl Gosein, Somers Point, New Jersey, Court of Federal Claims Number 05-0401V.

443. Eileen and John Regan on behalf of Sean Regan, New York, New York, Court of Federal Claims Number 05-0402V.

444. Leah Soifer on behalf of Aharon Soifer, Baltimore, Maryland, Court of Federal Claims Number 05-0404V.

445. Maureen and Kenneth Murrah on behalf of MacLain Murrah, Jacksonville, Florida, Court of Federal Claims Number 05-0407V.

446. Maria and Dean Lakis on behalf of Lynn Lakis, Port Washington, New York, Court of Federal Claims Number 05-0408V.

447. Kathryn and Robert Dorran on behalf of Henry Dorran, Maryville, Texas, Court of Federal Claims Number 05-0409V.

448. Colleen Papa on behalf of Alexander Papa, Boston, Massachusetts, Court of Federal Claims Number 05-0412V.

449. Kathleen Kong on behalf of Leialani Kong, Wailuku, Hawaii, Court of Federal Claims Number 05-0414V.

450. Kay Benson, Boston, Massachusetts, Court of Federal Claims Number 05-0415V.

451. Kathy Edwards on behalf of Joslyn Edwards, Joliet, Illinois, Court of Federal Claims Number 05-0416V.

452. Lisa Ross on behalf of Shannon Ross, Wilmington, North Carolina, Court of Federal Claims Number 05-0417V.

453. Jennifer Morse, Boston, Massachusetts, Court of Federal Claims Number 05-0418V.

454. Susan Clark, Boston, Massachusetts, Court of Federal Claims Number 05-0419V.

455. Kelly Boley, Boston, Massachusetts, Court of Federal Claims Number 05-0420V.

456. Roberta Boullion, Boston, Massachusetts, Court of Federal Claims Number 05-0421V.

Dated: August 1, 2005.
Elizabeth M. Duke,
Administrator.

[FR Doc. 05-15613 Filed 8-5-05; 8:45 am]

BILLING CODE 4165-15-P